DEPARTMENT OF TRANSPORTATION

Federal Aviation Administration

Notice of Opportunity for Public Comment on Surplus Property Release at Greenwood County Airport, Greenwood, South Carolina

AGENCY: Federal Aviation Administration (FAA), DOT.

ACTION: Notice.

SUMMARY: Notice is being given that the Federal Aviation Administration (FAA) is considering a request from the County of Greenwood to waive the requirement that one parcel (10.11 acres) of surplus property, located at the Greenwood County Airport be used for aeronautical purposes. Currently, ownership of the property provides for protection of FAR Part 77 surfaces and compatible land use which would continue to be protected with deed restrictions required in the transfer of land ownership.

DATES: Comments must be received on or before June 5, 2017.

ADDRESSES: Documents are available for review by prior appointment at the following location: Atlanta Airports District Office, Attn: Anna Lynch, Program Manager, 1701 Columbia Ave., Room 220, College Park, Georgia 30337-2747, Telephone: (404) 305-6746.

Comments on this notice may be mailed or delivered in triplicate to the FAA at the following address: Atlanta Airports District Office, Attn: Anna Lynch, Program Manager, 1701 Columbia Ave., Room 220, College Park, Georgia 30337-2747.

In addition, one copy of any comments submitted to the FAA must be mailed or delivered to Toby Chappell, County Manager, Greenwood County at the following address: County of Greenwood, Park Plaza, Suite 102, Greenwood, South Carolina 29646.

FOR FURTHER INFORMATION CONTACT: Anna Lynch, Program Manager, Atlanta Airports District Office, 1701 Columbia Ave., Room 220, College Park, Georgia 30337-2747, (404) 305-6746. The application may be reviewed in person at this same location.

SUPPLEMENTARY INFORMATION: The FAA is reviewing a request under the provisions of Title 49, U.S.C. Section 47151(d), by the County of Greenwood to release one parcel of surplus property (10.11 acres) at the Greenwood County Airport. These parcels were originally conveyed to the County of Greenwood on July 11, 1947 under the powers and authority contained in the provisions of the Surplus Property Act of 1944. Currently, the surplus properties are being used to generate timber sales but will become the site of a new County Animal Shelter.

Any person may inspect the request in person at the FAA office listed above under FOR FURTHER INFORMATION CONTACT.

In addition, any person may, upon request, inspect the request, notice and other documents germane to the request in person at the Greenwood County Airport.

Issued in Atlanta, Georgia, on April 17, 2017.
Larry F. Clark
Manager, Atlanta Airports District Office, Southern Region.

[FR Doc. 2017-09172 Filed 5-4-17; 8:45 am]

BILLING CODE 4910-13-P